DEPARTMENT OF HEALTH AND HUMAN SERVICES

Announcement of Availability of Funds for Family Planning Male Reproductive Health Research Grants

AGENCY: Department of Health and Human Services, Office of the Secretary, Office of Public Health and Science, Office of Population Affairs.

ACTION: Notice.

Authority: Section 1004 of the Public Health Service (PHS) Act.

SUMMARY: The Office of Population Affairs (OPA) requests applications for grants for research in certain behavioral and program implementation fields related to family planning. These grants are for community-based research projects to investigate best—practice approaches to providing family planning and related health information, education and clinical services targeting males.

DATES: To receive consideration, applications must be received by the Office of Public Health and Science (OPHS) Grants Management Office no later than June 13, 2003.

ADDRESSES: Application kits may be requested from, and applications submitted to: OPHS Grants Management Office, 1101 Wooton Parkway, 5th Floor, Rockville, MD 20852. Application kits are also available online at the Office of Population Affairs Web site at http://opa.osophs.dhhs.gov or may be requested by fax at (301) 594-0019 or (301) 594-5980.

SUPPLEMENTARY INFORMATION: Title X of the Public Health Service Act, 42 U.S.C. 300, et seq., authorizes programs related to family planning. Section 1004 of the Act, as amended, authorizes the Secretary of Health and Human Services to award grants to entities to conduct research in the behavioral and program implementation fields related to family planning. Implementing regulations can be found at 42 CFR part 52. Section 1008 of the Act, as amended, stipulates that none of the funds appropriated under this title shall be used in programs where abortion is a method of family planning.

CFDA: A description of the Title X Family Planning Research Program can be found at OMB Catalog of Federal Domestic Assistance 93.974. A description of Title X Family Planning Services Program can be found at OMB Catalog of Federal Domestic Assistance 93.217.

I. Funding Opportunity Description

This announcement seeks proposals from public and private non-profit entities to undertake research in the fields of family planning and reproductive health services and education for males. Funds available under this announcement are for community-based research projects to investigate best-practice approaches to providing family planning and related health information, education, and clinical services targeting males.

These projects are intended to evaluate different programmatic approaches and venues to reach males in need of such information and services, based on the use of recognized theory and logic-based models for program planning, implementation and evaluation.

Background

The family planning program authorized by Section 1001 of Title X is required by law to provide family planning services, including information, education and counseling, to all persons desiring such services. One subgroup of the population that continues to be under-represented is males. Over the past 30 years, males annually have comprised only two to four percent of clients served by the Title X family planning clinical service delivery system. This emphasizes the fact that simply offering clinical services will not result in males using those services.

Adult men of all ages do have reproductive health concerns; however, these concerns may not readily translate into contact with the health care system. During adolescence and young adulthood, sexual and reproductive health issues and behaviors have a great influence on males' lives. Accurate information, skills and support should be available to encourage delay of sexual debut until after adolescence and preferably until marriage. For sexually active young males, this time of life may bring with it such health concerns as STDs, HIV/AIDS, unintended pregnancy and the emotional stress of interpersonal and intimate relationships.

Among middle-aged and older males, health concerns around sexual and reproductive behavior continue, though the nature of these concerns may differ from that of younger males. Even when men visit a health care provider, they are more reluctant than women to bring problems of a reproductive or sexual nature to their clinician's attention. Given the different attitudes and expectations that men and women have toward health care, it would seem that involving men in their own care requires a different approach from that which has been successful with women.

Studies have shown that men are most receptive to health messages in locations and environments with which they are familiar, and as part of programs that they voluntarily pursue. Programs that deliver family planning and related health messages as part of other community-based services or activities have the potential to be successful and need greater emphasis and exploration. Experience with male projects has shown that health promotion and prevention services provided through community settings, complement available clinical health services.

The recent interest in encouraging male involvement in family planning and reproductive health is driven by the current epidemic of STDs, including HIV/AIDS, and high rates of unintended pregnancies, as well as by shifts in public health policies. Fighting the fatherless epidemic, promoting responsible fatherhood, and supporting healthy marriages are major concerns for the nations' lawmakers. Similarly, the recognition of health, educational, and psychosocial consequences of early sexual activity has led to an increased focus on extra-marital abstinence. Involving males in family planning and reproductive health issues is one way to encourage and support “future orientation” in terms of establishing core values, long term goals, and relationships, including marriage and family.

In the mid-1990s, the Office of Family Planning (OFP), Office of Population Affairs (OPA) funded community-based organizations to investigate and develop effective approaches to providing family planning/reproductive health information and services to males. In addition, these projects explored strategies to involve males in building community support for pregnancy prevention and contraception. These research projects showed that males do want and need reproductive health information and services, and will seek services from community-based entities that they know and trust. In addition, these projects showed that community-based organizations (CBOs), and faith-based organizations (FBOs), as a subset of community-based organizations, can effectively augment the clinical service delivery system. Project experience indicated that CBOs and the clinical delivery system function best as partners in the delivery of reproductive health services to males by focusing on health promotion and disease prevention services, and by contributing their outreach capabilities to raise awareness and encourage males to address their own health care needs. Key factors in the success of this complementary arrangement between CBOs and the clinical service delivery system are that CBOs integrate health-related services as part of their mission and activities, and that clinical providers reinforce the validity of CBOs as partners in the delivery of health promotion and disease prevention services.

Preliminary evaluation results from the research grants awarded in the mid-1990s suggests that participants in the OFP-funded male programs exhibited increased knowledge about family planning, reproductive health, and male responsibility related to their own health and the health of their partners and families compared with their knowledge prior to participation. Some areas where these programs were implemented have shown a marked reduction in teen pregnancy among the target population. In addition, preliminary assessment suggests that CBOs have the capability and commitment to improve program effectiveness and cost efficiency.

For over five years, national policy leaders and constituents have encouraged OFP to explore ways to involve CBOs in the provision of family planning and reproductive health services for males. The community-based family planning/reproductive health research programs for males have received strong community support. They have filled a gap in the service delivery system. Continued research efforts to refine models of service delivery, to test replicability of such models, and to address cost efficiency issues related to delivering male family planning and related health services will contribute to successful programs in CBOs, including FBOs.

Purposes of the Grant

The purpose of this grant is to expand the research base on program utility, replicability and cost-effectiveness of family planning and related health programs serving males. Continued scientific evaluation of the extent to which these programs and approaches produce their intended effect is crucial. Grants to be made under this announcement will build upon what was learned as a result of the last cycle of OFP-funded male research projects, and will focus on utility, replicability, and cost-effectiveness. In addition to conducting an evaluation of their individual projects, successful applicants must be prepared to participate in a cross-site evaluation, to be conducted by an independent entity, to assess program efficiency and effectiveness across all projects funded under this announcement.

In order to expand the research base on program utility, replicability and cost-effectiveness of family planning and related health programs serving males, OPA is soliciting applications for projects that focus on one or more of the following areas as they relate to males:

1. Testing of existing curricula or models for providing information and education to males regarding male development and reproductive health, relationships, responsibility, extra-marital abstinence, marriage and family formation, fatherhood, contraceptive services and STD prevention;

2. Modifying and testing existing curricula or models for providing male family planning/reproductive health information, education and/or clinical services to different, identified categories (e.g., different age groups, geography, race/ethnicity, etc.);

3. Testing of innovative approaches for providing family planning/reproductive health counseling and services to males.

Please note that no grant funds may be used for curriculum development. Existing curricula, or adaptations of existing curricula, which have been evaluated and found to be successful, should be used.

Applicants should familiarize themselves with Healthy People 2010—Chapter 11, “Health Communication” and the document “Community-Based Sexual and Reproductive Health Promotion and Education Programs for Males: Components that Work.” Copies of both of these documents are included in the application kit.

Cost per Participant

In investigating best practice approaches to providing family planning and reproductive health information, education and clinical services to males, the cost per participant depends upon the type of service provided. For example, the cost per participant for information and education programs is almost always less than the participant cost for clinical services. However, the lower cost per participant of providing information and education programs may be offset by a larger number of persons reached. In general, the cost of providing information and education programs is related to whether or not there is direct contact with participants, the number of participants in a session, the time spent during the session, the number of sessions, and the qualifications of the person(s) providing services. General guidelines for what education components should cost can be derived from the intensity level of provider-client interactions. Intensity level is a function of both the quality and quantity of contact time with individual clients, ranging from dissemination of information and educational materials with little or no contact with individuals; to less intense group meetings, used mainly for information exchange; to more intense interactions, such as those used to bring about behavior change.

Depending upon the services proposed, cost per participant served should range from approximately $50 to $300. Programs emphasizing materials (e.g., brochure distribution, intermittent presentations, local media campaigns, etc.) will be funded at the lower range, and will be based largely on the cost of materials dissemination or media campaign development and implementation. Costs should emphasize staffing and materials as they relate to the purpose of this announcement and proposed program.

Services involving direct person to person contact, such as delivery of health information and education in a structured series of small group sessions will generally be funded at the middle of the funding range. Cost emphasis should be on staffing, facility, materials, etc. as they relate to the purpose of this announcement and the proposed program.

Applicants proposing to provide individual treatment and/or functional support may incur higher costs. Budget requests should emphasize staff, facilities, materials, equipment, etc. to provide individual counseling or treatment, in addition to family planning/reproductive health information and education. These projects will be funded in the upper range. A minimal number of these higher cost projects will be funded.

The overall cost of the project will be determined by the type(s) of services provided. It is expected that the majority of projects will be of moderate intensity and funded in the mid-range.

II. Award Information

OPA intends to make available approximately $2.5 million to support an estimated 10-15 community-based research grants. Awards will range from $100,000 to $250,000 per year. Grants will be funded in annual increments (budget periods) and may be approved for a project period of up to five years. A match of non-Federal funds will not be required. Funding for all budget periods beyond the first year of the grant is contingent upon the availability of funds, satisfactory progress on the project, and adequate stewardship of federal funds.

III. Eligibility Information

Any public or private nonprofit entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a grant under this announcement. Faith-based organizations are eligible to apply for these family planning male reproductive health research grants.

Organizations that are experienced in providing a variety of services to males, such as social, educational, faith-based, vocational, and legal services (e.g., tutoring, mentoring, job skills training), and have the capability of expanding program activities to include development, provision and evaluation of family planning/reproductive health related information, education and clinical services, are encouraged to apply for a grant under this announcement.

IV. Application and Submission Information

Applications must be submitted on the Form OPHS-1 (Revised 6/01) and in the manner prescribed in the application kit. Application kits are available from the OPHS Grants Management Office at the address previously listed, on the OPA Web site at http://opa.osophs.dhhs.gov, or may be requested by fax at 301-594-0019 or 301-594-5980. Applicants are required to submit an original application signed by an individual authorized to act for the applicant agency or organization and to assume for the organization the obligations imposed by the terms and conditions of the grant award. Applicants are required to submit an original application and two copies. Applications should be limited to 50 double-spaced pages, not including appendices. Appendices may include curriculum vitae and other evidence of organizational capabilities.

Applications must include a one-page abstract of the proposed project. The abstract will be used to provide reviewers with an overview of the application, and will form the basis for the application summary in grants management documents. It is the practice of the Office of Population Affairs to maintain a summary of funded grants, and to post this information on the OPA Web site. The abstract will be used as the basis for this posting and for other requests for summary information regarding funded grants.

To receive consideration, applications must be received by the OPHS Grants Management Office by the deadline listed in the “Dates” section of this announcement. Applications will be considered as meeting the deadline if they are postmarked on or before the deadline date and are received in time for orderly processing. A legibly dated receipt from a commercial carrier or U.S. Postal Service will be accepted in lieu of a postmark. Private metered postmarks will not be accepted as proof of timely mailing. Hand-delivered applications must be received in the OPHS Grants Management Office not later than 4:30 p.m. on the application due date. Applications that do not meet the deadline will not be accepted for review, and will be returned. Applications sent via facsimile or by electronic mail will not be accepted for review.

A copy of the legislation governing this program and additional information which may be helpful will be included as part of the application kit. Applicants should use the legislation and other information included in this announcement to guide them in developing their applications.

Review Under Executive Order 12372

Applicants under this announcement are not subject to the requirements of Executive Order 12372, “Intergovernmental Review of Federal Programs.”

Program Requirements/Application Content

This notice seeks applications for the implementation and evaluation of community-based projects to investigate best-practice approaches to providing family planning and related health information, education and clinical services targeting males. Successful applications will focus on program utility, replicability and cost-effectiveness, and will include the following:

(1) An epidemiologic description of the target community.

(2) Evidence that the applicant organization has experience and success in providing a variety of services to males in the target community.

(3) A clear description of the target audience. Description should include whether the target audience includes individuals, groups, or the community as a whole.

(4) Evidence that the applicant organization has the capacity to deliver male reproductive health information, education (including abstinence education), and/or clinical services, that are appropriate to culture, age, and language of the target audience.

(5) Evidence that the proposed plan was developed using an integrated system, such as a logic model, for planning, monitoring and evaluation of program activities.

(6) Evidence that the proposed program activities are consistent with the requirements of Title X. Use of Title X funds is prohibited in programs where abortion is a method of family planning.

(7) A description of the type, length, and location of all program activities and specific program services.

(8) A theoretical rationale for the chosen program approach, as well as evidence of its effectiveness.

(9) Submission of goal statement(s) and related outcome objectives that are specific, measurable, achievable, realistic and time-framed (S.M.A.R.T.).

(10) A plan to evaluate individual program activities, the program as a whole, and its impact on the target audience.

(11) An assurance of willingness and ability to participate in a cross-site evaluation, to be conducted by an independent entity.

(12) A detailed budget and budget justification for year one of the project which is reasonable, adequate, and cost efficient, and which includes staffing requirements that are derived from proposed activities. Budget projections for each of the continuing years should be included.

(13) Evidence of formal agreements for referral services (e.g., age appropriate clinical services, if not provided by the applicant), and collaborative agreements with other service providers in the community, where appropriate.

Program Evaluation

All projects are required to have an evaluation plan, consistent with the scope of the proposed project and funding level, that conforms to the program's stated goals and objectives. The plan should include both a process evaluation to track the implementation of program activities and an outcome evaluation to measure changes in knowledge, skills, and behavior that can be attributed to the program. (Applicants are encouraged to utilize an integrated planning, monitoring and evaluation system, such as a logic model, for program development and implementation. Additional information on logic models is included in the application kit.) There should be substantial evidence that the project will add to the body of knowledge with regard to provision of quality male family planning and reproductive health information, education and services for males. Program funds may be used to support evaluation activities.

In addition to conducting an evaluation of their individual projects, successful applicants must be prepared to participate in a cross-site evaluation, to be supported by the OPA and conducted by an independent entity, to assess program efficiency and effectiveness across all projects funded under this announcement.

V. Application Review Information

Eligible grant applications will be reviewed by a multi-disciplinary panel of independent reviewers and assessed according to the following criteria:

(1) The applicant's presentation of a detailed evaluation plan, indicating an understanding of program evaluation methods and reflecting a practical and technically sound approach to assessing the project's achievement of program objectives, as well as the intent and ability to participate in a cross-cutting evaluation of all projects funded under this announcement (25 points);

(2) The capability of the applicant to provide family planning and reproductive health information, education and/or clinical services to males, as evidenced by the applicant's past and present history of providing a variety of services to males, such as social, health, recreational, educational, and/or vocational services (20 points);

(3) The applicant's presentation of the proposed project, including a clear description of need for the project; a theoretical rationale for the approach to be used, as well as its demonstrated effectiveness; measurable goals and objectives; methods for achieving objectives; and statement of expected results (20 points);

(4) The feasibility of the proposed project and likelihood that the results will contribute to the body of knowledge regarding the delivery of acceptable, culturally competent, cost effective family planning and reproductive health information, education, and clinical services to males (15 points);

(5) The administrative and management capability of the applicant, including competency of the proposed staff in relation to the type of research proposed, the project period, and the adequacy of the applicant's resources for the project (10 points); and

(6) The capacity of the applicant to make rapid and effective use of grant assistance, including evidence of ability to modify program activities if indicated (10 points).

Final grant award decisions will be made by the Deputy Assistant Secretary for Population Affairs. In making these decisions, the Deputy Assistant Secretary for Population Affairs will take into account the extent to which grants approved for funding will provide an appropriate geographic distribution of resources, and will take into consideration:

(1) The scientific merit and significance of the proposed project, including the model to be used;

(2) The population(s) to be served;

(3) The usefulness for policymakers and service providers of the proposed project and the likelihood of its producing meaningful results and information that will contribute to the body of knowledge regarding male family planning and reproductive health information, education and services for males; and

(4) The reasonableness of the estimated cost to the government considering the anticipated results.

Awards will be made only to those organizations or agencies which have demonstrated the capability of providing the proposed services, and which have met all applicable requirements. However, efforts will be made to distribute awards across the ten PHS Regions.

VI. Award Administration Information

OPA does not release information about individual applications during the review process until final funding decisions have been made. When these decisions have been made, applicants will be notified by letter regarding the outcome of their applications. The official document notifying an applicant that an application has been approved and granted funding is the Notice of Grant Award, which specifies to the grantee the amount of money awarded, the purpose of the grant, the terms and conditions of the grant award, and the amount of funding, if any, to be contributed by the grantee to project costs.

VII. Agency Contacts

For assistance on administrative and budgetary requirements, Karen Campbell, OPHS Grants Management Office, (301) 594-0758;

For assistance with questions regarding program requirements, Susan B. Moskosky, Office of Family Planning/Office of Population Affairs, (301) 594-4008.
Dated: April 7, 2003.
Alma L. Golden,
Deputy Assistant Secretary for Population Affairs.

[FR Doc. 03-9050 Filed 4-11-03; 8:45 am]

BILLING CODE 4150-34-P